GOVERNMENT ACCOUNTABILITY OFFICE

Request for Medicaid and CHIP Payment and Access Commission (MACPAC) Nominations

AGENCY: Government Accountability Office.

ACTION: Request for letters of nomination and resumes.

SUMMARY: The Children's Health Insurance Program Reauthorization Act of 2009 (CHIPRA) established MACPAC to review Medicaid and CHIP access and payment policies and to advise Congress on issues affecting Medicaid and CHIP. CHIPRA gave the Comptroller General of the United States responsibility for appointing MACPAC's members. The Government Accountability Office (GAO) is now accepting nominations for MACPAC appointments that will be effective May 2025. Nominations should be sent to the email address listed below. Acknowledgement of receipt will be provided within a week of submission.

DATES: Letters of nomination and resumes should be submitted no later than January 28, 2025, to ensure adequate opportunity for review and consideration of nominees prior to appointment.

ADDRESSES: Submit letters of nomination and resumes to MACPACappointments@gao.gov.

FOR FURTHER INFORMATION CONTACT: Corissa Kiyan-Fukumoto at KiyanFukumotoC@gao.gov or (202) 512-7114 if you do not receive an acknowledgment or need additional information. For general information, contact GAO's Office of Public Affairs, at PublicAffairs@gao.gov.

Authority: 42 U.S.C. 1396.

Gene L. Dodaro,
Comptroller General of the United States.

[FR Doc. 2024-29982 Filed 12-31-24; 8:45 am]

BILLING CODE 1610-02-P